DEPARTMENT OF LABOR

Office of the Secretary

Submission for OMB Review: Comment Request

September 14, 2005.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on 202-693-4129 (this is not a toll-free number) or e-mail: king.darrin@dol.gov.

Comments should be sent to Office of Information and Regulatory Affairs, Attn: OMB Desk Officer for the Bureau of Labor Statistics (BLS), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Bureau of Labor Statistics.

Type of Review: Reinstatement, without change, of a previously approved collection.

Title: Displaced Worker, Job Tenure, and Occupational Mobility Supplement to CPS.

OMB Number: 1220-0104.

Type of Response: Reporting.

Affected Public: Individuals or households.

Frequency: Biennially.

Number of Respondents: 55,000.

Annual Responses: 55,000.

Average Response Time: 8 minutes.

Estimated Annual Burden Hours: 7,333.

Total Annualized capital/startup costs: $0.

Total Annual Costs (operating/maintaining systems or purchasing services): $0.

Description: This supplement will gather information on workers who have lost or left their jobs because their plant or company closed or moved, there was insufficient work for them to do, or their position or shift was abolished. For those workers who have been reemployed, the survey will gather data on the types of jobs they found and will compare current earnings with those from the lost job. This will assist in developing training programs that will provide other displaced workers with the skills necessary to adjust to the changing economic environment.

The incidence and nature of occupational changes in the preceding year will be queried. The survey also will obtain information on the length of time workers (including those who have not been displaced) have been with their current employer. Tenure data are used to calculate displacement rates for long-tenured workers so that comparisons can be made over time and among different worker groups. Additional data to be collected include information on the receipt of unemployment compensation, the loss of health insurance coverage, and the length of time spent without a job. In combination, these supplemental data will provide the information needed to assess the economic hardship experienced by displaced workers.

The information collected by this survey will be used to determine the size and nature of the population affected by job displacements and the need for and necessary scope of programs serving adult displaced workers. It will also be used to assess employment stability by determining the length of time workers have been with their current employer and estimating the incidence of occupational change over the course of a year. Combining the questions on displacement, job tenure, and occupational mobility will enable analysts to obtain a more complete picture of employment stability.

Ira L. Mills,
Departmental Clearance Officer.

[FR Doc. 05-19015 Filed 9-22-05; 8:45 am]

BILLING CODE 4510-24-P